DEPARTMENT OF ENERGY

Federal Energy Regulatory Commission

Combined Notice of Filings #1

Take notice that the Commission received the following electric corporate filings:

Docket Numbers: EC23-36-000.

Applicants: NextEra Energy Resources, LLC, North American Sustainable Energy Fund, L.P., Energy Power Investment Company, LLC, EPP Renewable Energy, LLC.

Description: Joint Application for Authorization Under Section 203 of the Federal Power Act of NextEra Energy Resources, LLC.

Filed Date: 12/9/22.

Accession Number: 20221209-5232.

Comment Date: 5 pm ET 1/23/23.

Docket Numbers: EC23-37-000.

Applicants: Flat Water Wind Farm, LLC, TPW Petersburg, LLC, Roth Rock Wind Farm, LLC, Roth Rock North Wind Farm, LLC, Persimmon Creek Wind Farm 1, LLC.

Description: Joint Application for Authorization Under Section 203 of the Federal Power Act of Flat Water Wind Farm, LLC, et al.

Filed Date: 12/12/22.

Accession Number: 20221212-5100.

Comment Date: 5 p.m. ET 1/2/23.

Take notice that the Commission received the following Complaints and Compliance filings in EL Dockets:

Docket Numbers: EL23-15-000.

Applicants: Sunfish Solar LLC v. PJM Interconnection, L.L.C.

Description: Complaint of Sunfish Solar LLC.

Filed Date: 12/12/22.

Accession Number: 20221212-5024.

Comment Date: 5 p.m. ET 1/2/23.

Take notice that the Commission received the following electric rate filings:

Docket Numbers: ER21-2904-001.

Applicants: MidAmerican Central California Transco, LLC.

Description: Compliance filing: Amended Order No. 864 Compliance Filing (ER21-2904) to be effective 1/27/2020.

Filed Date: 12/12/22.

Accession Number: 20221212-5080.

Comment Date: 5 p.m. ET 1/2/23.

Docket Numbers: ER23-16-002.

Applicants: ISO New England Inc., The Narragansett Electric Company.

Description: Tariff Amendment: ISO New England Inc. submits tariff filing per 35.17(b): The Narragansett Electric Company—Response to Req. for Additional Information to be effective 1/1/2023.

Filed Date: 12/12/22.

Accession Number: 20221212-5118.

Comment Date: 5 p.m. ET 1/2/23.

Docket Numbers: ER23-597-000.

Applicants: Oklahoma Gas and Electric Company.

Description: § 205(d) Rate Filing: Section 205 Filing to Update Depreciation Rates in Transmission Formula Rate to be effective 7/1/2022.

Filed Date: 12/12/22.

Accession Number: 20221212-5030.

Comment Date: 5 p.m. ET 1/2/23.

Docket Numbers: ER23-598-000.

Applicants: Midcontinent Independent System Operator, Inc.

Description: § 205(d) Rate Filing: 2022-12-12_SA 2225 METC-Midland 2nd Rev GIA (G809) to be effective 12/1/2022.

Filed Date: 12/12/22.

Accession Number: 20221212-5034.

Comment Date: 5 p.m. ET 1/2/23.

Docket Numbers: ER23-599-000.

Applicants: Grand River Dam Authority, Southwest Power Pool, Inc.

Description: § 205(d) Rate Filing: Grand River Dam Authority submits tariff filing per 35.13(a)(2)(iii: Grand River Dam Authority Revisions to Formula Rate Protocols to be effective 2/11/2023.

Filed Date: 12/12/22.

Accession Number: 20221212-5040.

Comment Date: 5 p.m. ET 1/2/23.

Docket Numbers: ER23-600-000.

Applicants: PJM Interconnection, L.L.C.

Description: § 205(d) Rate Filing: Original WMPA SA No. 6734; Queue No. AG2-397 to be effective 11/11/2022.

Filed Date: 12/12/22.

Accession Number: 20221212-5063.

Comment Date: 5 p.m. ET 1/2/23.

Docket Numbers: ER23-601-000.

Applicants: Black Hills Colorado Electric, LLC.

Description: § 205(d) Rate Filing: Revisions to Open Access Transmission Tariff to be effective 2/11/2023.

Filed Date: 12/12/22

Accession Number: 20221212-5066.

Comment Date: 5 p.m. ET 1/2/23.

Docket Numbers: ER23-602-000.

Applicants: Duke Energy Progress, LLC.

Description: § 205(d) Rate Filing: DEP-DEP Provisional LGIA SA No. 419 Q485 to be effective 12/8/2022.

Filed Date: 12/12/22.

Accession Number: 20221212-5067.

Comment Date: 5 p.m. ET 1/2/23.

Docket Numbers: ER23-603-000.

Applicants: Tri-State Generation and Transmission Association, Inc.

Description: § 205(d) Rate Filing: Initial Filing of Service Agreement FERC No. 110 to be effective 11/18/2022.

Filed Date: 12/12/22.

Accession Number: 20221212-5069.

Comment Date: 5 p.m. ET 1/2/23.

Docket Numbers: ER23-604-000.

Applicants: Basin Electric Power Cooperative.

Description: Tariff Amendment: Basin Electric Notice of Cancellation of Service Agreement No. 23 to be effective 2/11/2023.

Filed Date: 12/12/22.

Accession Number: 20221212-5071.

Comment Date: 5 p.m. ET 1/2/23.

Docket Numbers: ER23-605-000.

Applicants: PJM Interconnection, L.L.C.

Description: § 205(d) Rate Filing: Original ISA, SA No. 6715; Queue No. AE2-111 to be effective 11/11/2022.

Filed Date: 12/12/22.

Accession Number: 20221212-5077.

Comment Date: 5 p.m. ET 1/2/23.

Docket Numbers: ER23-607-000

Applicants: K2SO, LLC

Description: Baseline eTariff Filing: Baseline new to be effective 12/13/2022.

Filed Date: 12/12/22.

Accession Number: 20221212-5081.

Comment Date: 5 p.m. ET 1/2/23.

Docket Numbers: ER23-608-000.

Applicants: Arizona Public Service Company.

Description: § 205(d) Rate Filing: Administrative Filing for Collation Correction to be effective 12/12/2022.

Filed Date: 12/12/22.

Accession Number: 20221212-5098.

Comment Date: 5 p.m. ET 1/2/23.

Docket Numbers: ER23-609-000.

Applicants: California Independent System Operator Corporation.

Description: § 205(d) Rate Filing: 2022-12-12 Tariff Clarifications to be effective 2/11/2023.

Filed Date: 12/12/22.

Accession Number: 20221212-5106.

Comment Date: 5 p.m. ET 1/2/23.

Docket Numbers: ER23-610-000

Applicants: Northern Indiana Public Service Company LLC

Description: § 205(d) Rate Filing: East Winamac CIAC Agreement to be effective 1/1/2023.

Filed Date: 12/12/22.

Accession Number: 20221212-5128.

Comment Date: 5 p.m. ET 1/2/23.

Take notice that the Commission received the following electric securities filings:

Docket Numbers: ES23-17-000.

Applicants: Midcontinent Independent System Operator, Inc.

Description: Application Under Section 204 of the Federal Power Act for Authorization to Issue Securities of Midcontinent Independent System Operator, Inc.

Filed Date: 12/12/22.

Accession Number: 20221212-5107.

Comment Date: 5 p.m. ET 1/2/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2022.
Debbie-Anne A. Reese,
Deputy Secretary.

[FR Doc. 2022-27338 Filed 12-15-22; 8:45 am]

BILLING CODE 6717-01-P